DEPARTMENT OF THE TREASURY

Internal Revenue Service

26 CFR Parts 1, 41, 48, and 145

[REG-103829-99 and REG-143321-02]

RIN 1545-AX10 and 1545-BB60

Excise Taxes; Definition of Highway Vehicle; Hearing and Information Reporting Relating to Taxable Stock Transactions; Hearing

AGENCY: Internal Revenue Service (IRS), Treasury.

ACTION: Change of location of public hearings.

SUMMARY: This document changes the location of two public hearings on proposed regulations relating to the definition of a highway vehicle for purposes of various excise taxes and information reporting relating to taxable stock transactions.

DATES: The public hearings scheduled in room 4718 on Thursday, February 27, 2003 and Tuesday, March 25, 2003, respectively, are rescheduled to be held in the IRS Auditorium at 10 a.m.

FOR FURTHER INFORMATION CONTACT: Concerning submissions of comments, the hearing, and/or to be placed on the building access list to attend the hearing, Treena Garrett at (202) 622-7180 (not a toll-free number).

SUPPLEMENTARY INFORMATION: A notice of public hearing (REG-103829-99), that was published in the Federal Register on Monday, September 16, 2002 (67 FR 58346), announced that a public hearing on proposed regulations relating to the definition of a highway vehicle for purposes of various excise taxes under sections 4041 (fuel taxes), 4051 (retail tax on heavy vehicles), 4071 (tire tax) and sections 6421 and 6427 (fuel tax credits and refunds) of the Internal Revenue Service Code would be held on Thursday, February 27, 2003, beginning at 10 a.m. in room 4718 of the Internal Revenue Building, 1111 Constitution Avenue, NW., Washington, DC.

A notice of proposed rulemaking by cross-reference to temporary regulations and notice of public hearing (REG-143321-02), that was published in the Federal Register on Monday, November 18, 2002 (67 FR 69496) and Wednesday, November 27, 2002, announced that a public hearing on proposed regulations relating to information reporting relating to taxable stock transactions under sections 6043(c) and 6045 of the Internal Revenue Service Code would be held on Tuesday, March 25, 2003, beginning at 10 a.m. in room 4718 of the Internal Revenue Building, 1111 Constitution Avenue, NW., Washington, DC.

The location of both public hearings has changed. The public hearing for REG-103829-99 and REG-143321-02 are being held in the Auditorium, beginning at 10 a.m., Internal Revenue Service Building, 1111 Constitution Avenue, NW., Washington, DC. Because of the controlled access restrictions, attendees are not admitted beyond the lobby on the Internal Revenue Service Building until 9:30 a.m. The IRS will prepare an agenda showing the scheduling of the speakers after the outlines are received from the persons testifying and make copies available free of charge at the hearing.

Cynthia E. Grigsby,
Chief, Regulations Unit, Associate Chief Counsel (Procedure and Administration).

[FR Doc. 03-3750 Filed 2-13-03; 8:45 am]

BILLING CODE 4830-01-P